CORPORATION FOR NATIONAL AND COMMUNITY SERVICE

Privacy Act of 1974; System of Records

AGENCY: Corporation for National and Community Service.

ACTION: Rescindment of a system of records notice.

SUMMARY: The Corporation for National and Community Service (CNCS) is rescinding the system of records named Join Senior Service Now Web-based Recruiting System (JASON)—Corporation-20. It was used to manage information about prospective Senior Corps volunteers who sought placement with organizations seeking their services.

DATES: You may submit comments until June 17, 2020. This system of records notice (SORN) will be rescinded June 17, 2020 unless CNCS receives any timely comments which would result in a contrary determination.

ADDRESSES: You may submit comments, identified by system name and number, to CNCS via any of the following methods:

1. Electronically through regulations.gov.

Once you access regulations.gov, locate the web page for this SORN by searching for Join Senior Service Now Web-based Recruiting System (JASON)—Corporation-20. If you upload any files, please make sure they include your first name, last name, and the name of the SORN being rescinded.

2. By email at privacy@cns.gov.

3. By mail: Corporation for National and Community Service, Attn: Chief Privacy Officer, OIT, 250 E Street SW, Washington, DC 20525.

4. By hand delivery or courier to CNCS at the address for mail between 9:00 a.m. and 4:00 p.m. Eastern Standard Time, Monday through Friday, except for Federal holidays.

Please note that all submissions received may be posted without change to regulations.gov, including any personal information.

FOR FURTHER INFORMATION CONTACT: Aaron Goldstein, (202) 606-3237, or by email at AGoldstein@cns.gov. Please include the system of record's name and number.

SUPPLEMENTARY INFORMATION: CNCS established and maintained a system of records, Join Senior Service Now Web-based Recruiting System (JASON)—Corporation-20, to manage records created by an online service called Join Senior Service Now. Among other features, potential Senior Corps volunteers could use the service to find Senior Corps organizations which fit their location and interests and send messages to those organizations. CNCS has since decommissioned the service and deleted all records collected through the service. As such, CNCS is rescinding the system of records notice Join Senior Service Now Web-based Recruiting System (JASON)—Corporation-20.

SYSTEM NAME AND NUMBER:

Join Senior Service Now Web-based Recruiting System (JASON)—Corporation-20.

HISTORY:

67 FR 4395, 4396, January 30, 2002; 67 FR 48616, 48616, July 25, 2002.

Dated: May 12, 2020.
Ndiogou Cisse,
Senior Agency Official for Privacy and Chief Information Officer.

[FR Doc. 2020-10478 Filed 5-14-20; 8:45 am]

BILLING CODE 6050-28-P